DEPARTMENT OF ENERGY

Federal Energy Regulatory Commission

[Docket No. EL06-5-000]

The City of Glendale, CA, Complainant v. Portland General Electric Company, Respondent; Notice of Complaint Requesting Fast Track Consideration

October 19, 2005.

Take notice that on October 18, 2005, the City of Glendale, California (Glendale) filed with the Commission a complaint against Portland General Electric Company (PGE), alleging the PGE as failed to follow and apply the requirements for the pricing, fees, and charges for energy and firm system capacity that PGE sells to Glendale under the Long-Term Power Sale and Exchange Agreement between Glendale and PGE (Agreement). Glendale requests a Commission order directing PGE to refund all amounts paid by Glendale in excess of the just and reasonable prices and formulary rates of the Agreement, plus interest, from the initial date of PGE's erroneous billing to present. Glendale also requests fast-track consideration of its complaint in light of PGE's August 2005 filing of a complaint for declaratory relief in the U.S. District Court in Oregon, which addresses many of the same issues and matters in dispute here.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on November 8, 2005.

Magalie R. Salas,
Secretary.

[FR Doc. E5-5912 Filed 10-25-05; 8:45 am]

BILLING CODE 6717-01-P